DEPARTMENT OF HEALTH AND HUMAN SERVICES

Centers for Disease Control and Prevention

[60Day-11-11HI]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send written comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Frame Development for the Long-Term Care Component of the National Health Care Surveys—NEW—National Center for Health Statistics (NCHS), Centers for Disease Control and Prevention (CDC).

Background and Brief Description

Section 306 of the Public Health Service (PHS) Act (42 U.S.C. 242k), as amended, authorizes that the Secretary of Health and Human Services (DHHS), acting through NCHS, “shall collect statistics on health resources * * * [and] utilization of health care, including extended care facilities, and other institutions.”

NCHS seeks approval to collect data needed to develop an up-to-date sampling frame of residential care facilities. The sampling frame will be used to draw a nationally representative sample for a planned new survey, the National Survey of Long-Term Care Providers (NSLTCP). The frame-related data will be collected from officials in state regulatory agencies in the 50 states and the District of Columbia primarily via telephone calls, e-mails, and in a few cases, via formal written requests. The data to be collected from these state officials include (1) confirming the appropriate licensure categories of residential care facilities within each state that meet the NSLTCP definition and (2) for each relevant licensure category, requesting an electronic file of the licensed residential care facilities for which the agency is responsible. The NSLTCP study definition of a residential care facility is one that is licensed, registered, listed, certified, or otherwise regulated by the state; provides room and board with at least two meals a day; provides around-the-clock on-site supervision; helps with activities of daily living (e.g., bathing, eating, or dressing) or medication supervision; serves primarily an adult population; and has at least four beds. Nursing homes, skilled nursing facilities, and facilities licensed to serve the mentally ill or the mentally retarded/developmentally disabled populations exclusively are excluded.

The electronic files we seek to obtain from the states should include the name and address of the residential care facility, name of facility director, licensure category, chain affiliation, and ownership.

NCHS also seeks approval to collect data on state licensing requirements regarding infection control practices during the frame development process. During the conversations with state officials to collect frame-related data, state officials will be asked to provide limited information on state licensing requirements regarding infection control practices in licensed residential care facilities.

Expected users of aggregate-level summary estimates from this data collection effort include, but are not limited to CDC; other Department of Health and Human Services (DHHS) agencies, such as the Office of the Assistant Secretary for Planning and Evaluation and the Agency for Healthcare Research and Quality; associations, such as LeadingAge (formerly the American Association of Homes and Services for the Aging), National Center for Assisted Living, American Seniors Housing Association, and Assisted Living Federation of America; universities; foundations; and other private sector organizations.

We estimate telephone calls with state officials, including the production of the electronic files will take 90 minutes each. Two year clearance is requested. There is no cost to respondents other than their time to participate.

Estimated Annualized Burden Table
Type of respondent | Form name | Number of respondents | Number of responses/ respondent | Average burden/ response (in hours) | Response burden in hours
State Officials | Telephone script | 26 | 1 | 1.5 | 39
Total |  |  |  |  | 39

Dated: June 8, 2011.
Daniel Holcomb,
Reports Clearance Officer, Office of the Chief Science Officer, Centers for Disease Control and Prevention.

[FR Doc. 2011-14791 Filed 6-14-11; 8:45 am]

BILLING CODE 4163-18-P